DEPARTMENT OF THE INTERIOR

Bureau of Reclamation

Central Valley Project Improvement Act, Standard Criteria for Ag and Urban Water Management Plans

AGENCY: Bureau of Reclamation, Interior.

ACTION: Notice of availability.

SUMMARY: The “Standard Criteria for Agricultural and Urban Water Management Plans” (Criteria) are now available for public comment. To meet the requirements of the Central Valley Project Improvement Act of 1992 (CVPIA) and the Reclamation Reform Act of 1982 (RRA), the Bureau of Reclamation (Reclamation) developed and published the Criteria. The Criteria apply to any Water Management Plans (Plans) submitted to Reclamation as required by applicable Central Valley Project (CVP) water service contracts, settlement contracts, or any contracts that specifically invokes the Criteria. Note: For the purpose of this announcement, Water Management Plans are considered the same as Water Conservation Plans.

DATES: Submit written comments by April 25, 2011.

ADDRESSES: Please mail comments to Ms. Melissa Crandell, Bureau of Reclamation, 2800 Cottage Way, MP-410, Sacramento, California 95825, 916-978-5208, or e-mail at mcrandell@usbr.gov.

FOR FURTHER INFORMATION CONTACT: To be placed on a mailing list for any subsequent information or to obtain a copy of any water management plans, please contact Ms. Crandell at the e-mail address or telephone number above.

SUPPLEMENTARY INFORMATION: Section 3405(e) of the CVPIA (Title 34 Pub. L. 102-575), requires the Secretary of the Interior to establish and administer an office on Central Valley Project water conservation best management practices (BMPs) that shall develop Criteria for evaluating the adequacy of all Plans developed by project contractors, including those Plans required by section 210 of the RRA. In addition, according to section 3405(e)(1), the Criteria must be developed “* * * with the purpose of promoting the highest level of water use efficiency reasonably achievable by project contractors using best available cost-effective technology and best management practices.” The Criteria states that all parties (Contractors) that contract with Reclamation for water supplies (except any contractor who receives less than a five-year average of 2,000 acre-feet per year (AFY) of only municipal and industrial (urban) water, any contractor who receives any combination of irrigation and/or urban water amounting to less than a current five-year average of 2,000 AFY, and agricultural contracts under a current five-year average of 2,000 irrigable acres) must prepare Plans that contain the following information:

1. Description of the District

2. Inventory of Water Resources

3. BMPs for Agricultural Contractors

4. BMPs for Urban Contractors

5. Plan Implementation

Reclamation will evaluate Plans based on the Criteria. The CVPIA requires Reclamation to evaluate, and revise if necessary, the Criteria every 3 years. The Criteria were last updated in 2008 and the proposed 2011 update is currently under review. Public scoping meetings to solicit comments on revision of the Criteria were held in January and February 2011. Comments will be incorporated into the finalized document. A copy can be found at the following Web site: http://www.mp.usbr.gov/watershare/news/2011_Standard_Criteria.pdf. A copy can also be obtained by contacting persons at the address above.

Public Disclosure: Before including your name, address, phone number, e-mail address, or other personal identifying information in your comment, you should be aware that your entire comment—including your personal identifying information—may be made publicly available at any time. While you can ask us in your comment to withhold your personal identifying information from public review, we cannot guarantee that we will be able to do so.

Dated: March 18, 2011.
Richard J. Woodley,
Regional Resources Manager, Mid-Pacific Region, Bureau of Reclamation.

[FR Doc. 2011-7078 Filed 3-24-11; 8:45 am]

BILLING CODE 4310-MN-P